ENVIRONMENTAL PROTECTION AGENCY

[FRL 9911-59-OA]

Notification of a Public Meeting of the Great Lakes Advisory Board

AGENCY: Environmental Protection Agency (EPA).

ACTION: Notice.

SUMMARY: The Environmental Protection Agency (EPA) announces a teleconference of the Great Lakes Advisory Board (Board). The purpose of this meeting is to discuss plans for the Great Lakes Restoration Initiative covering (GLRI) FY15-19 and other relevant matters.

DATES: The teleconference will be held Thursday, June 12, 2014 from 12:00 to 2:00 p.m. Central Time, 1:00 p.m. to 3:00 p.m. Eastern Time. An opportunity will be provided to the public to comment.

ADDRESSES: The teleconference will be held via GoToWebinar. Participants may register at https://www1.gotomeeting. com/register/610280241.

FOR FURTHER INFORMATION CONTACT: Any member of the public wishing further information regarding this meeting may contact Rita Cestaric, Designated Federal Officer (DFO), by telephone at 312-886-6815 or email at Cestaric.Rita@epa.gov. General information on the GLRI and the Board can be found at http://www.glri.us.

SUPPLEMENTARY INFORMATION: Background: The Board is a federal advisory committee chartered under the Federal Advisory Committee Act (FACA), Public Law 92-463. EPA established the Board in 2013 to provide independent advice to the EPA Administrator in her capacity as Chair of the federal Great Lakes Interagency Task Force (IATF). The Board conducts business in accordance with FACA and related regulations.

The Board consists of 18 members appointed by EPA's Administrator in her capacity as IATF Chair. Members serve as representatives of state, local and tribal government, environmental groups, agriculture, business, transportation, foundations, educational institutions, and as technical experts.

The Board held teleconferences and meetings in 2013 to develop recommendations for the FY 2015-2019 GLRI Action Plan. In December 2013, the Board issued its Advisory Report. See http://greatlakesrestoration.us/advisory/index.html for other information.

Availability of Meeting Materials: The agenda and other materials in support of the meeting will be available on the GLRI Web site at http://www.glri.us in advance of the meeting.

Procedures for Providing Public Input: Federal advisory committees provide independent advice to federal agencies. Members of the public can submit relevant comments for consideration by the Board. Input from the public to the Board will have the most impact if it provides specific information for the Board to consider. Members of the public wishing to provide comments should contact the DFO directly.

Oral Statements: In general, individuals or groups requesting to provide comments or oral presentation if appropriate at this public meeting will be limited to three minutes per speaker, subject to the number of people wanting to comment. Interested parties should contact the DFO in writing (preferably via email) at the contact information noted above by June 11, 2014 to be placed on the list of public speakers for the meeting.

Written Statements: Written statements must be received by June 11, 2014 so that the information may be made available to the Board for consideration. Written statements should be supplied to the DFO in the following formats: One hard copy with original signature and one electronic copy via email. Commenters are requested to provide two versions of each document submitted: One each with and without signatures because only documents without signatures may be published on the GLRI Web page.

Accessibility: For information on access or services for individuals with disabilities, please contact the DFO at the phone number or email address noted above, preferably at least 10 days prior to the meeting, to give EPA as much time as possible to process your request.

Dated: May 23, 2014.
Cameron Davis,
Senior Advisor to the Administrator.

[FR Doc. 2014-12603 Filed 5-29-14; 8:45 am]

BILLING CODE 6560-50-P